DEPARTMENT OF THE INTERIOR

Bureau of Land Management

[LLNV920000 L91310000.PP0000 241A, 11-08807; N-89307; MO#4500019300; TAS: 14X5575]

Notice of Realty Action: Opening of Public Land in Elko County, NV

AGENCY: Bureau of Land Management, Interior.

ACTION: Notice of realty action.

SUMMARY: This Notice opens 320 acres of public land located in Elko County, Nevada, to leasing under applicable geothermal leasing laws subject to valid existing rights and reserved interest in the land.

DATES: Effective Date: March 4, 2011.

ADDRESSES: Bureau of Land Management, Elko District Office, Wells Field Office, 3900 East Idaho Street, Elko, Nevada 89801.

FOR FURTHER INFORMATION CONTACT: Bryan Fuell, Field Manager, Wells Field Office, at the above address, telephone: (775) 753-0210 or e-mail: bryan_fuell@blm.gov.

SUPPLEMENTARY INFORMATION: The subject land was re-conveyed to the United States by Grant Deed dated May 28, 1952, as part of a land exchange completed under Section 8 of the Taylor Grazing Act, reserving to the grantor all “petroleum, gas, asphaltum and other hydrocarbons.” A decision dated August 11, 1952, states that the United States accepted title of the re-conveyed lands with “a reservation of minerals.” Section 8 of the Taylor Grazing Act required that an Opening Order be published before the United States could open the re-conveyed lands to mineral entry, leasing, or other public land laws for the minerals not reserved to the private party in the 1952 deed. An Opening Order, dated November 6, 1958 (23 FR 8674) was issued on the re-conveyed lands, however, the Order did not explicitly include the applicable geothermal leasing laws. The subject land is described as follows:

Mount Diablo Meridian

T. 38 N., R. 59 E.,

sec. 13, E½.

The area described contains 320 acres, more or less, in Elko County.

On publication of this notice in the Federal Register, the lands described shall be opened to the operation of the geothermal leasing laws, 30 U.S.C. 1001 et seq., subject to valid existing rights, the provisions of existing withdrawals, other segregations of record, and the requirements of applicable law.

This proposed action is in compliance with the Bureau of Land Management Wells Resource Management Plan approved July 7, 1985, and meets Departmental criteria for a categorical exclusion from the National Environmental Policy Act and its requirement to prepare either an Environmental Assessment or an Environmental Impact Statement.

Authority: 43 CFR part 2370.

Amy Lueders,
State Director, Nevada.

[FR Doc. 2011-4971 Filed 3-3-11; 8:45 am]

BILLING CODE 4310-HC-P